Proclamation 10631 of September 22, 2023

National Public Lands Day, 2023

By the President of the United States of America

A Proclamation

Our public lands—including our national parks, monuments, forests, and wildlife preserves—are irreplaceable and home to so many of the natural wonders that represent the heart and soul of our Nation. They unite and inspire us, and from generation to generation, they have sustained us. On National Public Lands Day, we welcome every American to celebrate our Nation's lands and waters in all their splendor.

As we honor the power and promise of our Nation's natural majesty, we also recommit to conserving our lands and waters for generations to come. When we conserve our public lands, we are doing more than protecting their beauty. We protect the places where history was made. We safeguard the air we breathe and the water we drink. We defend the livelihoods of people who depend on these lands and waters as a way of life, like our ranchers, outfitters, guides, and rural and Indigenous communities. We honor the sacred lands that Tribal Nations have stewarded since time immemorial. We make our Nation more resilient to the impacts of climate change.

That is why my Administration has developed the most ambitious land and water conservation agenda in American history. During my first week in office, I issued an Executive Order establishing the country's first-ever National Conservation Goal to protect at least 30 percent of our lands and waters by 2030. That means supporting locally led, voluntary conservation and restoration efforts across the country—the very cornerstone of my “America the Beautiful” initiative. I also signed an Executive Order to protect America's forests, harness the power of nature in the fight against climate change, and initiate the first National Nature Assessment to evaluate the state of our lands, waters, and wildlife.

Together, we have made strong progress toward those goals. My Inflation Reduction Act represents the largest investment in our history dedicated to confronting the climate crisis. Along with investments from the Bipartisan Infrastructure Law, these investments will also help fuel environmental justice and conservation efforts, including more than $50 billion dedicated to strengthening the resilience of our communities and ecosystems to the impacts of climate change. To address the wildfire crisis, many Americans who care for our Nation's forests are using these investments to implement critical conservation and stewardship practices, working toward our goal of reducing the wildfire risk on up to 50 million acres of public and private land through science-based fuels and forest health treatments—a land size equal to that of South Dakota.

I have designated five new national monuments and restored protections for lands and waters across the country. In Alaska, we protected the Tongass National Forest and the salmon of Bristol Bay and took significant steps to protect the fragile coastal plain of the Arctic National Wildlife Refuge and special areas in the Western Arctic. We restored the protections and status that the previous administration rolled back in the Bears Ears National Monument, the Grand Staircase-Escalante National Monument, and the North East Canyons and Seamounts Marine National Monument. I had the honor of visiting Camp Hale Continental Divide in Colorado last year and adding it to the list of national monuments, for the first time in our history. I established the Avi Kwa Ame National Monument in Nevada, considered one of the most sacred places on Earth by several Tribal Nations. Most recently, I protected almost one million acres of public land around the Grand Canyon National Park as the new Baaj Nwaavjo I'tah Kukveni National Monument. I declared the entire United States Arctic Ocean off-limits to new oil and gas development, and my budget for next year requests new funding to ensure that public lands are accessible to every American.

In celebration of our public lands, several Federal agencies have announced that all of our country's national parks, forests, refuges, and grasslands will have a “Fee-Free Day” on September 23rd so everyone can access some of our Nation's most iconic places and all their wonder, free of charge. There are also several fee-free days throughout the year, and the last for 2023 will occur on Veterans Day, November 11th. Whether it is visiting the rolling hills of the Appalachians, the majestic Grand Canyon, or the towering peaks of Mt. Rainier in Washington State, I encourage all Americans to take some time to explore the beauty our country has to offer.

NOW, THEREFORE, I, JOSEPH R. BIDEN JR., President of the United States of America, by virtue of the authority vested in me by the Constitution and laws of the United States, do hereby proclaim September 23, 2023, as National Public Lands Day. I invite all Americans to join me in a day of service for our public lands. I also encourage volunteers from across the Nation to celebrate and care for our lands and waters by reforesting the land, maintaining trails, building bridges, nurturing native ecosystems, removing invasive species, and doing other conservation work to serve the lands and waters that support and sustain us.

IN WITNESS WHEREOF, I have hereunto set my hand this twenty-second day of September, in the year of our Lord two thousand twenty-three, and of the Independence of the United States of America the two hundred and forty-eighth.

[FR Doc. 2023-21651

Filed 9-27-23; 11:15 am]

Billing code 3395-F3-P